DEPARTMENT OF TRANSPORTATION

Pipeline and Hazardous Materials Safety Administration

[Docket: RSPA-00-7408]

Request for Public Comments and Office of Management and Budget (OMB) Approval of an Existing Information Collection (2137-0605)

AGENCY: Pipeline and Hazardous Materials Safety Administration (PHMSA), Department of Transportation (DOT).

ACTION: Notice.

SUMMARY: This notice seeks public comment on the need for PHMSA to collect paperwork information on pipeline integrity management in high consequence areas from hazardous liquid pipeline operators with less than 500 miles of pipelines. This information collection requires operators to provide direct integrity testing and evaluation of pipelines in high consequence areas. This notice is published (pursuant to the Paperwork Reduction Act of 1995) to measure the need for the paperwork collection, to find ways to minimize the burden on these operators that must respond, to find ways to enhance the quality of information collected, and to verify the accuracy of the PHMSA's estimate of the burden (measured in work hours) on private entities. This notice also seeks approval from OMB to renew the existing approval of this paperwork collection.

DATES: Comments on this notice must be received by August 1, 2005, to be assured of consideration.

ADDRESSES: You may submit written comments to the docket by any of the following methods:

• Mail: Dockets Facility, U.S. Department of Transportation, Room PL-401, 400 Seventh Street, SW., 20590-0001. Anyone wanting confirmation of mailed comments must include a self-addressed stamped postcard.

• Hand delivery or courier: Room PL-401, 400 Seventh Street, SW., Washington, DC. The Dockets Facility is open from 9 a.m. to 5 p.m., Monday through Friday, except Federal holidays.

• Web site: Go to http://dms.dot.gov, click on “Comments/Submissions” and follow instructions at the site.

All written comments should identify the docket number and notice number stated in the heading of this notice.

Docket access. For copies of this notice or other material in the docket, you may contact the Dockets Facility by phone, (202) 366-9329 or visit the facility at the above street address. For Web access to the dockets to read and download filed material, go to http://dms.dot.gov/search. Then type in the last four digits of the docket number shown in the heading of this notice, and click on “Search.”

Anyone can search the electronic form of all comments filed in any of our dockets by the name of the individual submitting the comment (or signing the comment, if submitted for an association, business, labor union, etc.). You may review DOT's complete Privacy Act Statement in the April 11, 2000 issue of the Federal Register (65 FR 19477) or go to http://dms.dot.gov.

Interested persons are invited to send comments regarding the burden estimated or any other aspect of this collection of information, including any of the following subjects: (1) The need for the proposed collection, including whether the information will have practical utility; (2) the accuracy of the agency's estimate of the burden, including the validity of the methodology and assumption used; (3) ways to enhance the quality, utility, and clarity of the information to be collected; and (4) ways to minimize the burden of the collection of information on those who are to respond, including the use of appropriate automated, electronic, mechanical, or other technology collection techniques.

FOR FURTHER INFORMATION CONTACT: Florence Hamn, Office of Pipeline Safety, PHMSA, DOT, 400 Seventh Street, SW., Washington, DC 20590, (202) 366-3015 or by e-mail at Florence.Hamn@dot.gov.

SUPPLEMENTARY INFORMATION: PHMSA published the Final Rule titled “Pipeline Safety: Pipeline Integrity Management in High Consequence Areas (Hazardous Liquid Operators with less than 500 miles of Pipelines)” on January 16, 2002, in response to a host of safety recommendations, statutory mandates (49 U.S.C. chapter 601 and 49 CFR part 195), and the results of accident analyses. This rule requires continual assessment and evaluation of pipeline integrity through inspection or testing, data integration and analysis, and follow-up remedial, preventive, and mitigative actions.

The existing estimate of the information collection burden is based on the assumption that (1) all operators have developed initial integrity management plan, however, based on the audits conducted by PHMSA, approximately 50 percent or about 66 operators would need to substantially revise the initial plan, and would require approximately 1,400 hours to revise their initial integrity management program; (2) an additional 330 hours are required to update these programs annually; and (3) an additional 500 hours per operator are required annually to integrate data into the operator's existing management information system. PHMSA would like to continue to collect vital information on integrity management programs in the high consequence areas to measure its program effectiveness and to fulfill its statutory mandates.

As used in this notice, “information collection” and “paperwork collection” are synonymous, and include all work related to preparing and disseminating information related to this recordkeeping requirement including completing paperwork, gathering information and conducting telephone calls.

Type of Information Collection Request: Renewal of existing collection.

Title of Information Collection: Pipeline Integrity Management in High Consequence Areas for Operators with less than 500 Miles of Pipelines.

OMB Approval Number: 2137-0605.

Frequency: Annually, and as needed.

Use: This collection is used by PHMSA to measure the program's effectiveness and ensure its statutory mandates for hazardous liquid pipeline safety in the high consequence areas.

Estimated Number of Respondents: 132.

Respondents: Hazardous liquid pipeline operators with less than 500 miles of pipelines.

Total Annual Hours Requested: 267,960.

Theodore L. Willke,
Deputy Associate Administrator for Pipeline Safety.

[FR Doc. 05-13089 Filed 6-30-05; 8:45 am]

BILLING CODE 4910-60-P